DEPARTMENT OF THE INTERIOR

Fish and Wildlife Service

Tetlin National Wildlife Refuge, Tok, AK

AGENCY: U.S. Fish and Wildlife Service, Interior.

ACTION: Notice of Availability of the Draft Revised Comprehensive Conservation Plan and Environmental Assessment for Tetlin National Wildlife Refuge; request for comments.

SUMMARY: We, the U.S. Fish and Wildlife Service (Service, we), announce that the Draft Revised Comprehensive Conservation Plan (CCP) and Environmental Assessment (EA) for Tetlin National Wildlife Refuge is available for public comment. The Draft CCP was prepared pursuant to the Alaska National Interest Lands Conservation Act of 1980 (ANILCA), the National Wildlife Refuge System Administration Act of 1966 (Refuge Administration Act) as amended by the National Wildlife Refuge System Improvement Act of 1997 (Refuge Improvement Act), and the National Environmental Policy Act of 1969 (NEPA). Three alternatives for management of Tetlin Refuge over the next 15 years, including continuing current management, are considered in the Draft Conservation Plan.

DATES: Comments on the Draft Conservation Plan must be received on or before January 18, 2008.

ADDRESSES: To provide written comments or to request a paper copy or a compact disk of the Draft CCP, contact Mikel Haase, Planning Team Leader, U.S. Fish and Wildlife Service, 1011 East Tudor Rd., MS-231, Anchorage, Alaska 99503; telephone: (907) 786-3402; fax: (907) 786-3965; e-mail: fw7_tetlin_planning@fws.gov. You may also view or download a copy of the Draft CCP at the following Web site: http://alaska.fws.gov/nwr/planning/tetpol.htm. Copies of the Draft CCP may be viewed at the Tetlin Refuge Office in Tok, Alaska; local area libraries, and the U.S. Fish and Wildlife Service Regional Office in Anchorage, Alaska.

FOR FURTHER INFORMATION, CONTACT: Mikel Haase at the above address or phone number.

SUPPLEMENTARY INFORMATION: The ANILCA (16 U.S.C. 410hh et seq., 43 U.S.C. 1602 et seq.) requires development of a CCP for all national wildlife refuges in Alaska. The Draft CCP for Tetlin Refuge was developed consistent with section 304(g) of ANILCA and the Refuge Administration Act as amended by the Refuge Improvement Act (16 U.S.C. 668dd et seq.). The purpose of developing CCPs is to provide refuge managers with a 15-year management strategy for achieving refuge purposes and contributing toward the mission of the National Wildlife Refuge System, consistent with sound principles of fish, wildlife, and habitat management and conservation; legal mandates; and Service policies. Plans define long-term goals and objectives toward which refuge management activities are directed and identify which uses may be compatible with the purposes of the refuge. They identify wildlife-dependent recreation opportunities available to the public, including hunting, fishing, wildlife observation and photography, and environmental education and interpretation. Comprehensive conservation plans are updated in accordance with planning direction in section 304(g) of ANILCA and with NEPA (42 U.S.C. 4321 et seq.).

Background: In 1980, ANILCA designated Tetlin National Wildlife Refuge. Refuge boundaries encompass approximately 935,000 acres of which approximately 693,000 acres (74 percent) are under Service jurisdiction. Section 302(8)(B) of ANILCA states that the purposes for which Tetlin Refuge was established include: to conserve fish and wildlife populations and habitats in their natural diversity; to fulfill international treaty obligations of the United States with respect to fish and wildlife and their habitats; to provide the opportunity for continued subsistence use by local residents; to ensure water quality and necessary water quantity within the refuge; and to provide opportunities for interpretation and environmental education.

The original Tetlin CCP was completed in 1987 following direction in Section 304(g) of ANILCA. Management categories (wilderness, wild rivers, minimal, moderate, and intensive) are used to describe management levels throughout the refuges in Alaska. A management category is a set of refuge management directions applied to an area, in light of its resources and existing and potential uses, to facilitate management and the accomplishment of refuge purposes and goals. Three management categories (minimal, moderate, and intensive) apply to Tetlin Refuge. The 1997 Refuge Improvement Act includes additional direction for conservation planning throughout the National Wildlife Refuge System. This direction has been incorporated into national planning policy for the National Wildlife Refuge System, including refuges in Alaska. This draft revision of the Tetlin conservation plan meets the requirements of both ANILCA and the Refuge Improvement Act.

Issues raised during scoping and addressed in this Draft CCP are: (1) The visitor services role of Tetlin Refuge in the upper Tanana Valley; (2) refuge role in providing opportunities for access to, and associated facilities for, existing and expanding wildlife-dependent uses of the refuge; (3) management of fire on Tetlin Refuge to provide adequate protection of refuge resources and private property within and adjacent to the refuge; (4) use of prescribed fire as a method of habitat management; and (5) use of fishery management actions to maintain native fish breeding stocks and enhance recreational fishing.

This Draft CCP describes and evaluates three alternatives for managing Tetlin Refuge for the next 15 years. These alternatives follow the same general management direction but provide different levels of development and different ways of addressing the issues.

Alternative A (Current Management): Management of Tetlin Refuge would continue to follow the 1987 CCP and record of decision as modified by subsequent program-specific plans (e.g., fisheries, public use, and fire management plans). Private and commercial uses of the refuge would continue at current levels. Refuge management would continue to reflect existing laws, executive orders, regulations, and policies governing Service administration and operation of the National Wildlife Refuge System. The refuge would continue to coordinate with partners to maintain the refuge's role as a key participant and provider of environmental education, interpretation, and recreation in the upper Tanana Valley. The refuge would maintain or increase existing opportunities for compatible public use of the refuge. Facilities, such as interpretive and hiking trails, boat launches, highway pullouts, and campgrounds, would be upgraded or new facilities would be constructed to promote day use and interpretive opportunities along the Alaska Highway as described in the Refuge's Public Use Management Plan. Other public use opportunities on the refuge, including canoeing, hiking, environmental education and interpretation, and public use of administrative cabins, would be promoted. The refuge would continue to protect resources and property and to meet habitat management objectives by treating a fixed number of acres annually through a variety of fire management techniques including prescribed burning, suppression, thinning, and wildland fire use to maintain and enhance habitat for particular wildlife species. The refuge would work with the Alaska Department of Fish and Game to reintroduce native fish populations to selected waters throughout the refuge; to manage populations to maintain breeding stock; and to develop additional put-and-take fisheries within the refuge along the Alaska Highway. Refuge lands would continue to be managed under Minimal (approximately 577,500 acres), Moderate (approximately 121,500 acres), and Intensive (1,640 acres) management categories; approximately 40 acres at the Seaton Roadhouse site would be reclassified from Minimal Management to Moderate Management to allow facilities development and increased wildlife-dependent public use.

Alternative B (Preferred Alternative): Management of Tetlin Refuge would generally continue to follow the 1987 CCP and record of decision as modified by subsequent program-specific plans. Refuge management would continue to reflect existing laws, executive orders, regulations, and policies governing Service administration and operation of the National Wildlife Refuge System. Along with the actions described under Alternative A, the refuge would work with the local community to seek formal recognition of Tok as a “Gateway Community” and to increase opportunities for environmental education, interpretation, and recreation off-refuge and in support of or in conjunction with refuge programs. Opportunities for current and new public use would be promoted (e.g., canoe routes established). Existing public use facilities would be upgraded and new facilities (e.g., hiking trails, restrooms at highway pullouts) would be constructed. The refuge would continue to protect resources and property using a variety of fire management techniques including prescribed burning, suppression, thinning, and wildland fire use. The refuge would emphasize the use of natural fire with prescribed burns based only on specific project objectives (e.g. fuels reduction, habitat protection, or fire effects research) and suppression to reduce potential for large-scale wildfires and to maintain long-term ecological health of refuge lands. Natural fire would be used as the primary tool to maintain and enhance habitat. All native fisheries would be managed to maintain self-sustaining, healthy populations to contribute to natural diversity in the region; any reintroductions would be based on historic distribution of fish. Refuge lands would continue to be managed in the same management categories as under Alternative A.

Alternative C: Management of Tetlin Refuge would generally continue to follow the 1987 CCP and record of decision as modified by subsequent program-specific plans. Refuge management would continue to reflect existing laws, executive orders, regulations, and policies governing Service administration and operation of the National Wildlife Refuge System. Along with the actions described under Alternatives A and B, the refuge would pursue the following additional management actions under Alternative C. In addition to establishing Tok as a “Gateway Community,” this alternative would establish Tetlin Refuge as the leader in interpretation of the region by expanding the refuge interpretive program and establishing partnerships to expand educational and interpretive programs throughout the area. Alternative C would include construction of additional interpretive kiosks, wildlife viewing platforms, and photography blinds at selected pullouts along the Alaska Highway, construction of an additional 15 to 20 miles of hiking trails, and construction or marking of additional routes for a variety of other year-round compatible uses. Additional public use cabins would be constructed to provide more options for access to refuge backcountry on a year-round basis. A fee system would be established at some campgrounds to support additional amenities (e.g., potable water, electricity, sewage dump stations, more campsites, and hard-surface roads for year-round access). The refuge would establish parking areas and improve access to undeveloped boat launches, trails, and other points of access to the refuge, and would identify camping locations and mark and maintain portages on the canoe trails. Fire suppression would be the primary tool to protect resources and property throughout the refuge, though small-scale prescribed burns would be used to meet specific fuel reduction objectives near resources or properties at risk. Fire would not be used to maintain or enhance wildlife habitat. Fisheries management would be the same as in Alternative B. Refuge lands would continue to be managed in the same management categories as under Alternative A.

Public Availability of Comments

Before including your name, address, phone number, e-mail address, or other personal identifying information in your comment, you should be aware that your entire comment—including your personal identifying information—may be made publicly available at any time. While you can ask us in your comment to withhold your personal identifying information from public review, we cannot guarantee that we will be able to do so.

Dated: September 27, 2007.
Thomas O. Melius,
Regional Director, U.S. Fish and Wildlife Service, Anchorage, Alaska.

[FR Doc. E7-19493 Filed 10-2-07; 8:45 am]

BILLING CODE 4310-55-P